DEPARTMENT OF HEALTH AND HUMAN SERVICES

Administration for Children and Families

Administration on Developmental Disabilities

AGENCY: Administration on Developmental Disabilities, Administration for Children and Families.

ACTION: Single-Source Non-Competitive Continuation Award.

CFDA Number: 93.632.

Legislative Authority: Public Law (Pub. L.) 106-402, Developmental Disabilities Assistance and Bill of Rights Act of 2000.

Amount of Award: $60,000 for one year.

Project Period: September 30, 2006-September 29, 2007.

This notice announces the award of a single-source non-competition continuation award to the Mississippi Institute for Disability Studies, University of Southern Mississippi (the Institute) to address the needs of underserved and unserved individuals affected by Hurricane Katrina.

Lessons learned from Hurricane Katrina reflected that there was insufficient capacity in relief efforts to address the needs of individuals with developmental disabilities during and following the hurricane. With this award this Institute, which currently has a grant from the Administration on Developmental Disabilities (ADD) to operate a University Center for Excellence in Developmental Disabilities, Research and Services (UCEDD), will expand its mission to develop and conduct the necessary training program to produce a cadre of case managers with expertise in working within the complex service system serving people with developmental disabilities, which has been expanded to include agencies such as FEMA.

The proposed project will have numerous benefits on the lives of individuals with developmental disabilities affected by Hurricane Katrina. Individuals with developmental disabilities were the most vulnerable during the response/evacuation period and they are the most vulnerable during the stages of recovery and rebuilding. The service infrastructure for individuals with developmental disabilities was significantly disrupted and many people lost key supports, such as assistive devices, service animals, and public communication systems. Moreover, the Hurricane had a devastating impact on the mental health of disaster victims with developmental disabilities, which is further compromised by a lack of mental health services following the storm.

As people with developmental disabilities and communities as a whole tried to recover from these factors caused by Hurricane Katrina, case managers from various agencies or organizations emerged to assist in the recovery process. Because in many affected areas, especially along the coastal areas, it will be a long time before life is as it once was, trained case managers who understand the special needs of people with developmental disabilities who are victims of disaster will be needed on a long-term basis.

For Further Information Contact: Jennifer Johnson, Administration on Developmental Disabilities, Administration for Children and Families, U.S. Department of Health and Human Services, 370 L'Enfant Promenade, SW., MAIL STOP: Humphrey Building, 405D,Washington, DC 20447. Telephone: 202-690-5982.

Dated: September 27, 2006.
Patricia A. Morrissey,
Commissioner, Administration on Developmental Disabilities.

[FR Doc. E6-16358 Filed 10-3-06; 8:45 am]

BILLING CODE 4184-01-P